FARM CREDIT ADMINISTRATION

Privacy Act of 1974; System of Records

AGENCY: Farm Credit Administration.

ACTION: Notice of a modified system of records.

SUMMARY: Pursuant to the provisions of the Privacy Act of 1974, as amended, notice is hereby given that the Farm Credit Administration (FCA or Agency) is amending an existing system of records, FCA-17—Organization Locator and Personnel Roster System—FCA.

DATES: You may send written comments on or before August 31, 2020. FCA filed an amended System Report with Congress and the Office of Management and Budget on June 8, 2020. This notice will become effective without further publication on September 9, 2020 unless modified by a subsequent notice to incorporate comments received from the public.

ADDRESSES: We offer a variety of methods for you to submit your comments. For accuracy and efficiency reasons, commenters are encouraged to submit comments by email or through the FCA's website. As facsimiles (fax) are difficult for us to process and achieve compliance with section 508 of the Rehabilitation Act, we are no longer accepting comments submitted by fax. Regardless of the method you use, please do not submit your comment multiple times via different methods. You may submit comments by any of the following methods:

• Email: Send us an email at reg-comm@fca.gov.

• FCA website: http://www.fca.gov. Click inside the “I want to . . .” field, near the top of the page; select “comment on a pending regulation” from the dropdown menu; and click “Go.” This takes you to an electronic public comment form.

• Mail: David Grahn, Director, Office of Regulatory Policy, Farm Credit Administration, 1501 Farm Credit Drive, McLean, VA 22102-5090.

You may review copies of comments we receive at our office in McLean, Virginia, or from our website at http://www.fca.gov. Once you are in the website, click inside the “I want to . . .” field, near the top of the page; select “find comments on a pending regulation” from the dropdown menu; and click “Go.” This will take you to the Comment Letters page, where you can select the SORN for which you would like to read public comments. The comments will be posted as submitted but, for technical reasons, items such as logos and special characters may be omitted. Identifying information that you provide, such as phone numbers and addresses, will be publicly available. However, we will attempt to remove email addresses to help reduce internet spam.

FOR FURTHER INFORMATION CONTACT: Autumn R. Agans, Privacy Act Officer, Farm Credit Administration, McLean, Virginia 22102-5090, (703) 883-4020, TTY (703) 883-4019.

SUPPLEMENTARY INFORMATION: This publication satisfies the requirement of the Privacy Act of 1974 that agencies publish a system of records notice in the Federal Register when there is a revision, change, or addition to the system of records.

The Organization Locator and Personnel Roster System—FCA system is used to identify, contact, and recall personnel when required; locate personnel for routine and emergency matters; provide mail distribution and forwarding addresses; compile a social roster for official and non-official functions; send personal greetings and invitations; establish building security; and locate individuals during medical emergencies, facility evacuations, and similar threat situations. The Agency is updating the notice to reflect changes to the categories of individuals, to include more details, make administrative updates and non-substantive changes, and to conform to the SORN template requirements prescribed in the Office of Management and Budget (OMB) Circular No. A-108. The substantive changes and modifications to the currently published version of FCA-17—Organization Locator and Personnel Roster System—FCA include:

1. Identifying the records in the system as unclassified.

2. Updating the system location to reflect the system's current location.

3. Updating the system managers to reflect the system's current owner.

4. Expanding and clarifying the categories of individuals and categories of records in the system to ensure they are consistent with the purpose for which the records are collected.

5. Clarifying how records may be stored and retrieved.

6. Revising the retention and disposal section to reflect updated guidance from the National Archives and Records Administration.

7. Revising the safeguards section to reflect updated cybersecurity guidance and practices.

Additionally, non-substantive changes have been made to the notice to align with the latest guidance from OMB.

The amended system of records is: FCA-17—Organization Locator and Personnel Roster System—FCA. As required by 5 U.S.C. 552a(r) of the Privacy Act, as amended, FCA sent notice of this proposed system of records to the Office of Management and Budget, the Committee on Oversight and Government Reform of the House of Representatives, and the Committee on Homeland Security and Governmental Affairs of the Senate. The notice is published in its entirety below.

System Name and Number:

FCA-17—Organization Locator and Personnel Roster System—FCA.

Security Classification:

Unclassified.

System Location:

Office of Agency Services, Farm Credit Administration, 1501 Farm Credit Drive, McLean, VA 22102-5090.

System Manager:

Director, Office of Agency Services, Farm Credit Administration, 1501 Farm Credit Drive, McLean, VA 22102-5090.

Authority for Maintenance of the System:

12 U.S.C. 2243, 2252.

Purposes of the System:

To identify, contact, and recall personnel when required; locate personnel for routine and emergency matters; provide mail distribution and forwarding addresses; compile a social roster for official and non-official functions; send personal greetings and invitations; establish building security; and locate individuals during medical emergencies, facility evacuations, and similar threat situations.

Categories of Individuals Covered by the System:

Current FCA and FCSIC employees, contractors, detailees, and their identified emergency point(s) of contact.

Categories of Records in the System:

Information in the system includes names and contact information for FCA and FCSIC employees, contractors, detailees, and their identified emergency points of contact. Information includes but is not limited to: home and work addresses; home and work telephone numbers; cell phone numbers; personal and work email addresses; official titles or positions and organizations; photographs; building security zones; and other information associated with identifying and contacting personnel.

Record Source Categories:

Information in this system of records either comes from the individual to whom it applies or comes from information supplied by Agency officials.

Routine Uses of Records Maintained in the System, Including Categories of Users and Purposes of Such Uses:

See the “General Statement of Routine Uses” (64 FR 8175). Disclosure to consumer reporting agencies: None.

Policies and Practices for Storage of Records:

Records are maintained in files folders as well as electronically in a computerized database.

Policies and Practices for Retrieval of Records:

Records are retrieved by name, email address, phone number, or some combination thereof.

Policies and Procedures for Retention and Disposal of Records:

Records are retained in accordance with the National Archives and Records Administration's General Records Schedule requirements, and with the FCA Comprehensive Records Schedule.

Administrative, Technical, and Physical Safeguards:

FCA implements multiple layers of security to ensure access to records is limited to those with a need-to-know in support of their official duties. Records are physically safeguarded in a secured environment using locked file rooms, file cabinets, or locked offices and other physical safeguards. Computerized records are safeguarded through use of user roles, passwords, firewalls, encryption, and other information technology security measures.

Record Access Procedures:

To obtain a record, contact: Privacy Act Officer, Farm Credit Administration, 1501 Farm Credit Drive, McLean, VA 22102-5090, as provided in 12 CFR part 603.

Contesting Record Procedures:

Direct requests for amendments to a record to: Privacy Act Officer, Farm Credit Administration, 1501 Farm Credit Drive, McLean, VA 22102-5090, as provided in 12 CFR part 603.

Notification Procedure:

Address inquiries about this system of records to: Privacy Act Officer, Farm Credit Administration, McLean, VA 22102-5090.

Exemptions Promulgated for the System:

None.

History:

Federal Register Vol. 64, No. 100/Tuesday, May 25, 1999 page 21875

Vol. 70, No. 183/Thursday, September 22, 2005, page 55621

Dated: July 28, 2020.
Dale Aultman,
Secretary, Farm Credit Administration Board.

[FR Doc. 2020-16620 Filed 7-30-20; 8:45 am]

BILLING CODE 6705-01-P